DEPARTMENT OF COMMERCE

Foreign-Trade Zones Board

[S-192-2023]

Foreign-Trade Zone 144; Application for Expansion of Subzone 144C; Orgill, Inc.; Tifton, Georgia

An application has been submitted to the Foreign-Trade Zones (FTZ) Board by the Brunswick and Glynn County Development Authority, grantee of FTZ 144, requesting an expansion of Subzone 144C on behalf of Orgill, Inc., located in Tifton, Georgia. The application was submitted pursuant to the provisions of the Foreign-Trade Zones Act, as amended (19 U.S.C. 81a-81u), and the regulations of the FTZ Board (15 CFR part 400). It was formally docketed on September 28, 2023.

The applicant is requesting authority to expand the subzone to include an additional site: Proposed Site 2 (87 acres)—10 Orgill Way, Tifton, Georgia. No authorization for production activity has been requested at this time. The expanded subzone would be subject to the existing activation limit of FTZ 144.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is November 14, 2023. Rebuttal comments in response to material submitted during the foregoing period may be submitted during the subsequent 15-day period to November 29, 2023.

A copy of the application will be available for public inspection in the “Online FTZ Information Section” section of the FTZ Board's website, which is accessible via www.trade.gov/ftz.

For further information, contact Christopher Kemp at Christopher.Kemp@trade.gov.

Dated: September 28, 2023.
Elizabeth Whiteman,
Executive Secretary.

[FR Doc. 2023-22129 Filed 10-4-23; 8:45 am]

BILLING CODE 3510-DS-P